OFFICE OF MANAGEMENT AND BUDGET

Notice of Training Session: Effective Participation in Executive Order 12866 Meetings With the Office of Information and Regulatory Affairs (in Spanish)

AGENCY: Office of Management and Budget, Executive Office of the President.

ACTION: Notice of training session.

SUMMARY: Interested members of the public may request a meeting with the Office of Information and Regulatory Affairs (OIRA) to present their views about a regulatory action that is under OIRA review. These meetings, known as E.O. 12866 meetings, serve as listening sessions for OIRA officials and representatives from the agency or agencies taking the regulatory action. To assist members of the public seeking to request an E.O. 12866 meeting, OIRA has modified its website and posted an instructional video and a step-by-step guide to requesting a meeting, in English and Spanish, on its website. Moreover, to encourage participation by those who have not historically requested E.O. 12866 meetings, including those from underserved communities, OIRA will offer periodic and accessible trainings on effective participation in E.O. 12866 meetings. OIRA has recently held two training sessions on E.O. 12866 meeting participation. To assist Spanish-speaking members of the public who may wish to request an E.O. 12866 meeting in the future, OIRA will hold a training session in Spanish.

DATES: The training session will be held on August 14, 2024, at 3 to 3:45 p.m., Eastern Time.

ADDRESSES: Information to access the virtual training sessions will be provided upon registration. Members of the public may register by sending an email to publicparticipation@omb.eop.gov.

FOR FURTHER INFORMATION CONTACT: Please email the Office of Management and Budget at publicparticipation@omb.eop.gov.

SUPPLEMENTARY INFORMATION: Executive Order 12866 establishes and governs the process under which OIRA reviews agencies' significant regulatory actions. E.O. 12866 provides that members of the public may meet with OIRA during OIRA's review of draft proposed and final rules. These meetings, known as E.O. 12866 meetings, offer an opportunity for members of the public to present their views on regulatory actions under review. OIRA invites representatives from the agency or agencies taking the regulatory action to these meetings, though participation may be limited by scheduling or other considerations. E.O. 12866 meetings serve as listening sessions for OIRA and agency representatives, and both the identity of meeting attendees and any written materials provided by the meeting requestors are disclosed on OIRA's website.

In an effort to facilitate meeting requests, OIRA has modified its website to simplify the request form and to provide several avenues through which outside parties can request meetings.¹ In addition, OIRA has provided detailed written step-by-step instructions in English and Spanish,² as well as a video (also translated into Spanish),³ on its website, RegInfo.gov, on how to schedule a meeting. To facilitate broader participation in E.O. 12866 meetings, including by requestors who have not historically requested such meetings or face challenges in traveling to Washington, DC, OIRA holds E.O. 12866 meetings virtually, primarily as teleconferences.

¹ https://www.reginfo.gov/public/do/eo/neweomeeting.

² https://www.reginfo.gov/public/jsp/Utilities/EO-12866-Video-Transcript-english.pdf (in English); and https://www.reginfo.gov/public/jsp/Utilities/EO-12866-Video-Transcript-spanish.pdf (in Spanish).

³ https://www.youtube.com/watch?v=1zxsAFsgJ3I (in English) and https://www.youtube.com/watch?v=9dRt4XxZ78c (in Spanish).

To encourage participation by members of the public who have not historically requested E.O. 12866 meetings, including members of underserved communities, OIRA will offer periodic and accessible trainings on effective participation in E.O. 12866 meetings. OIRA recently held two training sessions. To assist Spanish-speaking members of the public, OIRA will hold a training session in Spanish on August 14, 2024, at 3 to 3:45 p.m., Eastern Time. The training session will be conducted entirely in Spanish, and will include a question-and-answer period. At the training sessions OIRA will describe (1) what an E.O. 12866 meeting is; (2) how members of the public may request and schedule a meeting; (3) the format of E.O. 12866 meetings; (4) what type of information or input is most helpful to receive during an E.O. 12866 meeting; and (5) what makes for an effective presentation during an E.O. 12866 meeting.

Richard L. Revesz,
Administrator, Office of Information and Regulatory Affairs.

[FR Doc. 2024-17154 Filed 8-12-24; 8:45 am]

BILLING CODE 3110-01-P